OFFICE OF NATIONAL DRUG CONTROL POLICY

Meeting of the Advisory Commission on Drug Free Communities

AGENCY: Office of National Drug Control Policy.

ACTION: Notice of meeting.

SUMMARY: In accordance with the Drug-Free Communities Act, a meeting of the Advisory Commission on Drug Free Communities will be held on March 5 and 6, 2002 at the Office of National Drug Control Policy in the 5th Floor Conference Room, 750 17th Street NW., 7th Floor, Washington, DC. The meeting will commence at 9 a.m. on Tuesday, March 5, 2002 and adjourn for the evening at 5 p.m. The meeting will resume at 9 a.m. on Wednesday, March 6, 2002 and conclude at 3 p.m. The agenda will include: remarks by ONDCP Director, John P. Walters; Report on Reauthorization of the Drug-Free Communities Program; Administrator's Progress Report; Progress Report on National Evaluation; and National Youth Anti-Drug Media Campaign: Coalition Building initiative. There will be an opportunity for public comment from 11 a.m. until 11:30 on Wednesday, March 6, 2002.

FOR FURTHER INFORMATION CONTACT: Linda V. Priebe, (202) 395-6622.

Dated: February 4, 2002.
Linda V. Priebe,
Assistant General Counsel.

[FR Doc. 02-3049 Filed 2-7-02; 8:45 am]

BILLING CODE 3180-02-P